DEPARTMENT OF ENERGY

Federal Energy Regulatory Commission

[Project Nos. 597-025 & 15372-000]

PacifiCorp; Notice of Application for Surrender of License and Issuance of a Conduit Exemption Accepted for Filing, Soliciting Comments, Motions To Intervene, Protests, Recommendations, and Terms and Conditions

Take notice that the following hydroelectric application has been filed with the Commission and is available for public inspection:

a. Application Type: Surrender of License and Issuance of a Conduit Exemption.

b. Project Nos: 597-025 & 15372-000.

c. Date Filed: August 23, 2024, and supplemented on September 17, 2024.

d. Applicant: PacifiCorp.

e. Name of Project: Stairs Hydroelectric Project.

f. Location: The project is located along Big Cottonwood Creek, near the city of Cottonwood Heights, in Salt Lake County, Utah. The project occupies Federal lands within the Uinta-Wasatch-Cache National Forest managed by the U.S. Forest Service.

g. Filed Pursuant to: Federal Power Act, 16 U.S.C. 791a-825r.

h. Applicant Contact: Eve Davies, Principal Scientist/Licensing Project Manager, PacifiCorp, 1407 West North Temple, Salt Lake City, Utah 84116, eve.davies@pacificorp.com, (801) 232-1704.

i. FERC Contact: Chris Chaney, (202) 502-6778, christopher.chaney@ferc.gov.

j. Cooperating Agencies: With this notice, the Commission is inviting Federal, State, local, and Tribal agencies with jurisdiction and/or special expertise with respect to environmental issues affected by the proposal, that wish to cooperate in the preparation of any environmental document, if applicable, to follow the instructions for filing such requests described in item l below. Cooperating agencies should note the Commission's policy that agencies that cooperate in the preparation of any environmental document cannot also intervene. See 94 FERC ¶ 61,076 (2001).

k. Water Quality Certification: A water quality certificate under section 401 of the Clean Water Act may be required for this proposal from the Utah Department of Environmental Quality (Utah DEQ). The applicant must file no later than 60 days following the date of issuance of this notice either: (1) a copy of the request for water quality certification submitted to the Utah DEQ; or (2) a copy of the water quality certification or evidence of waiver of water quality certification.

l. Deadline for filing comments, motions to intervene, protests, recommendations, and terms and conditions: 60 days from the issuance date of this notice; reply comments are due 105 days from the issuance date of this notice.

The Commission strongly encourages electronic filing. Please file comments, motions to intervene, protests, recommendations, and terms and conditions using the Commission's eFiling system at https://www.ferc.gov/docs-filing/efiling.asp. Commenters can submit brief comments up to 6,000 characters, without prior registration, using the eComment system at https://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the docket numbers P-597-025 and P-15372-000. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

m. Description of Request: PacifiCorp's application seeks an exemption from the licensing requirements of Part 1 of the Federal Power Act (conduit exemption, P-15372), and an administrative surrender of the license for the Stairs Project (surrender, P-597). The proposal does not involve any construction, modification, deconstruction, or ground disturbance. PacifiCorp would continue operating the project as it currently does; however, certain currently licensed facilities would be removed from the Commission's jurisdiction as part of the surrender, while other facilities would remain under the Commission's jurisdiction as part of the conduit exemption, as detailed below.

Facilities to be Removed from Commission Jurisdiction under the Proposed Surrender: (1) a 150-foot-long and 35-foot-high earth-fill diversion dam (Storm Mountain Dam); (2) a reinforced concrete spillway; (3) a reinforced concrete intake structure; (4) a 2,850-foot-long penstock; (5) a 7-foot-wide by 5.3-foot-deep reinforced concrete tailrace; and (6) other appurtenances. The aforementioned facilities would remain in place and operational as part of the water supply system.

Facilities to Remain under Commission Jurisdiction under the Proposed Conduit Exemption: an existing 100-foot-wide by 35-foot-long masonry powerhouse containing one generating unit with an installed capacity of 1,200 kilowatts and appurtenances.

n. Locations of the Application: This filing may be viewed on the Commission's website at https://www.ferc.gov using the “eLibrary” link. Enter the docket number excluding the last three digits in the docket number field to access the document. You may also register online at https://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “REPLY COMMENTS”, “PROTEST”, “MOTION TO INTERVENE”, or “TERMS AND CONDITIONS”, as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, Tribal members, and others, access publicly available information and navigate Commission processes. For public inquiries and assistance with making filings such as interventions, comments, or requests for rehearing, the public is encouraged to contact OPP at (202) 502-6595 or OPP@ferc.gov.

Dated: May 15, 2025.
Carlos D. Clay,
Deputy Secretary.

[FR Doc. 2025-09103 Filed 5-20-25; 8:45 am]

BILLING CODE 6717-01-P